DEPARTMENT OF THE TREASURY

Internal Revenue Service

Open Meeting of the Taxpayer Advocacy Panel's Tax Forms and Publications Project Committee; Change

AGENCY: Internal Revenue Service (IRS), Treasury.

ACTION: Notice of meeting; change.

SUMMARY: In the Federal Register notice that was originally published on January 22, 2021, (Volume 86, Number 13, Page 6740) the time for this meeting has changed from 11:00 a.m. Eastern Time to 1:30 p.m. Eastern Time. All other meeting details remain the unchanged.

DATES: The meeting will be held Wednesday, February 10, 2021.

FOR FURTHER INFORMATION CONTACT: Fred Smith at 1-888-912-1227 or (202) 317-3087.

SUPPLEMENTARY INFORMATION: Notice is hereby given pursuant to Section 10(a)(2) of the Federal Advisory Committee Act, 5 U.S.C. App. (1988) that a meeting of the Taxpayer Advocacy Panel's Tax Forms and Publications Project Committee will be held Wednesday, February 10, 2021 at 1:30 p.m. Eastern Time. The public is invited to make oral comments or submit written statements for consideration. Due to limited time and structure of meeting, notification of intent to participate must be made with Fred Smith. For more information please contact Fred Smith at 1-888-912-1227 or (202) 317-3087, or write TAP Office, 1111 Constitution Ave. NW, Room 1509, Washington, DC 20224 or contact us at the website: http://www.improveirs.org.

Dated: January 26, 2021.
Kevin Brown,
Acting Director, Taxpayer Advocacy Panel.

[FR Doc. 2021-02008 Filed 1-29-21; 8:45 am]

BILLING CODE 4830-01-P